Title 3—

The President

Proclamation 7359 of October 10, 2000

Suspension of Entry as Immigrants and Nonimmigrants of Persons Impeding the Peace Process in Sierra Leone

By the President of the United States of America

A Proclamation

In light of the longstanding political and humanitarian crisis in Sierra Leone, I have determined that it is in the interests of the United States to restrict the entry into the United States as immigrants and nonimmigrants of certain foreign nationals who plan, engage in, or benefit from activities that support the Revolutionary United Front or that otherwise impede the peace process in Sierra Leone, and the spouses, children of any age, and parents of such persons.

NOW, THEREFORE, I, WILLIAM J. CLINTON, by the power vested in me as President by the Constitution and the laws of the United States of America, including section 212(f) of the Immigration and Nationality Act of 1952, as amended (8 U.S.C. 1182(f)), and section 301 of title 3, United States Code, hereby find that the unrestricted immigrant and nonimmigrant entry into the United States of persons described in section 1 of this proclamation would, except as provided for in section 2 or 3 of this proclamation, be detrimental to the interests of the United States. I therefore hereby proclaim that:

Section 1. The entry into the United States as immigrants and nonimmigrants of persons who plan, engage in, or benefit from activities that support the Revolutionary United Front or that otherwise impede the peace process in Sierra Leone, and the spouses, children of any age, and parents of such persons, is hereby suspended.

Sec. 2. Section 1 shall not apply with respect to any person otherwise covered by section 1 where the entry of such person would not be contrary to the interests of the United States.

Sec. 3. Persons covered by sections 1 and 2 shall be identified pursuant to such procedures as the Secretary may establish under section 5 of this proclamation.

Sec. 4. Nothing in this proclamation shall be construed to derogate from United States obligations under applicable international agreements.

Sec. 5. The Secretary of State shall have responsibility to implement this proclamation pursuant to such procedures as the Secretary may establish.

Sec. 6. This proclamation is effective immediately and shall remain in effect, in whole or in part, until such time as the Secretary of State determines that it is no longer necessary and should be terminated, in whole or in part. The Secretary of State's determination shall be effective upon publication of such determination in the Federal Register.

IN WITNESS WHEREOF, I have hereunto set my hand this tenth day of October, in the year of our Lord two thousand, and of the Independence of the United States of America the two hundred and twenty-fifth.

wj

[FR Doc. 00-26529

Filed 10-12-00; 8:45 am]

Billing code 3195-01-P